DEPARTMENT OF TRANSPORTATION

Federal Aviation Administration

14 CFR Part 39

[Docket No. FAA-2013-0939; Directorate Identifier 2013-CE-043-AD; Amendment 39-17655; AD 2013-22-23]

RIN 2120-AA64

Airworthiness Directives; Aermacchi S.p.A. Airplanes

AGENCY: Federal Aviation Administration (FAA), DOT.

ACTION: Final rule; request for comments.

SUMMARY: We are adopting a new airworthiness directive (AD) for Aermacchi S.p.A. Models F.260, F.260B, F.260C, F.260D, F.260E, F.260F, S.208, and S.208A airplanes equipped with a Lycoming O-540 wide cylinder flange engine with a front crankcase mounted propeller governor. This AD results from mandatory continuing airworthiness information (MCAI) issued by the aviation authority of another country to identify and correct an unsafe condition on an aviation product. The MCAI describes the unsafe condition as the set screw that fixes the setting of the propeller governor idler gear shaft was not in the proper position. We are issuing this AD to require actions to address the unsafe condition on these products.

DATES: This AD is effective December 16, 2013.

The Director of the Federal Register approved the incorporation by reference of certain publications listed in the AD as of December 16, 2013.

We must receive comments on this AD by December 30, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Alenia Aermacchi S.p.A, Via Paola Foresio, 1, 21040 Venegono Superiore (Varese)—Italy; telephone: 0331-813111; fax: 0331-827595; Internet: http://www.aleniaaermacchi.it/en-US/Pages/custsupp.aspx. You may view this referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Mike Kiesov, Aerospace Engineer, FAA, Small Airplane Directorate, 901 Locust, Room 301, Kansas City, Missouri 64106; telephone: (816) 329-4144; fax: (816) 329-4090; email: mike.kiesov@faa.gov.

SUPPLEMENTARY INFORMATION:

Discussion

The European Aviation Safety Agency (EASA), which is the Technical Agent for the Member States of the European Community, has issued EASA AD No.: 2012-0228R1, dated November 13, 2012 (referred to after this as “the MCAI”), to correct an unsafe condition for the specified products. The MCAI states:

A case of in-flight complete loss of engine oil pressure indications has been reported, resulting in an emergency landing. During the post-flight inspection on the affected engine, some metallic parts (2-4 mm) have been found. Although the origin of these parts has not been established, it seems probable that they originated from the set screw, Part Number (P/N) AN565B1032H, that fixes the setting of the propeller governor idler gear shaft, because in the affected engine, it was not found in the proper position.

This condition, if not detected and corrected, could lead to engine failure, possible resulting in a forced landing, consequent damage to the aeroplane, and injury to occupants.

To address this potential unsafe condition, Alenia Aermacchi issued Bollettino Tecnico (BT) 205B65 and BT 260SB-136 to instruct owners and operators of the aeroplanes that could be affected.

To correct this potential unsafe condition, EASA issued Emergency AD 2012-0228-E to require repetitive inspections of the affected engines and, in case any discrepancy is found, accomplishment of the applicable corrective actions.

Since AD 2012-0228-E was issued, it has become clear that only `wide cylinder flange' engines equipped with a front crankcase propeller governor (ref to Lycoming Service Instruction No. 1343B and Lycoming Service Letter L220C) are equipped with the affected set screw P/N AN565B1032H that is the subject of this AD.

For the reason described above, this AD is revised to reduce the Applicability, requiring only actions on aeroplanes fitted with a `wide cylinder flange' engine equipped with a front crankcase propeller governor. This AD is also revised to remove, after the first inspection/correction, the limitation that prohibited aerobatic manoeuvres.

This is still considered to be a temporary measure and further AD action may follow.

You may examine the MCAI on the Internet at http://www.regulations.gov by searching for and locating it in Docket No. FAA-2013-0939.

Relevant Service Information

Alenia Aermacchi Una Societa Finmeccanica has issued Mandatory Bollettino Tecnico (English Translation: Technical Bulletin) No. 205B65, Revision 1, dated November 12, 2012; and Alenia Aermacchi Una Societa Finmeccanica has issued Mandatory Bollettino Tecnico (English Translation: Technical Bulletin) No. 260SB-136, Revision 1, dated November 12, 2012. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because improper position of the set screw that fixes the setting of the propeller governor idler gear could result in loss of engine oil pressure indications resulting in emergency landing. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2013-0939; Directorate Identifier 2013-CE-043-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 43 products of U.S. registry. We also estimate that it would take about 2 work-hours per product to comply with the basic requirements of this AD. The average labor rate is $85 per work-hour. Required parts would cost about $50 per product.

Based on these figures, we estimate the cost of the AD on U.S. operators to be $9,460, or $220 per product.

Since there currently are no repair instructions available when discrepancies are found during the required inspection, the FAA has no way of determining what the cost would be per airplane that would need such repairs.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-22-23 Aermacchi S.p.A.: Amendment 39-17655; Docket No. FAA-2013-0939; Directorate Identifier 2013-CE-043-AD.

(a) Effective Date

This airworthiness directive (AD) becomes effective December 16, 2013.

(b) Affected ADs

None.

(c) Applicability

This AD applies to the following AERMACCHI S.p.A. airplanes that are certificated in any category:

(1) Models F.260, F.260B, F.260C, F.260D, F.260E, and F.260F airplanes, all serial numbers, that are equipped with either a Lycoming O-540, IO-540, or AEIO-540 wide cylinder flange engine (identified by the suffix “A” or “E” in the serial number) with a front crankcase mounted propeller governor; and

(2) Models S.208 and S.208A airplanes, all serial numbers, that are equipped with a Lycoming O-540 wide cylinder flange engine (identified by the suffix “A” or “E” in the serial number) with a front crankcase mounted propeller governor.

(d) Subject

Air Transport Association of America (ATA) Code 71: Powerplant.

(e) Reason

This AD was prompted by mandatory continuing airworthiness information (MCAI) issued by the aviation authority of another country to identify and correct an unsafe condition on an aviation product. The MCAI describes the unsafe condition as the set screw that fixes the setting of the propeller governor idler gear shaft was not in the proper position. We are issuing this AD to detect and correct improper position of the set screw, which could lead to complete loss of engine oil pressure indications and result in emergency landing.

(f) Actions and Compliance

Unless already done, do the following actions in paragraphs (f)(1) through (f)(5) of this AD.

(1) For Models F.260, F.260B, F.260C, F.260D, F.260E, and F.260F airplanes: Before further flight after December 16, 2013 (the effective date of this AD), fabricate and install a placard that states: “AEROBATIC MANEUVERS ARE PROHIBITED.” Fabricate the placard using 1/8-inch black lettering on a white background and install the placard on the instrument panel in clear view of the pilot.

(2) In lieu of installing the placard, a copy of this AD may be inserted into the limitations section of the applicable airplane flight manual (AFM) to comply with the action required by paragraph (f)(1) of this AD. The insertion of the AD into the AFM may be done by an owner/operator (pilot) holding at least a private pilot certificate and must be entered into the airplane records showing compliance with this AD in accordance with 14 CFR 43.9 (a)(1)(4) and 14 CFR 91.417(a)(2)(v). The record must be maintained as required by 14 CFR 91.173, 121.380, or 135.439.

(3) For all airplanes: Within the next 10 hours time-in-service (TIS) after December 16, 2013 (the effective date of this AD) and repetitively thereafter at intervals not to exceed 100 hours TIS, inspect the propeller governor idler gear shaft set screw, part number (P/N) AN565B1032H, following the Compliance Instructions of Alenia Aermacchi Una Societa Finmeccanica Mandatory Bollettino Tecnico (English Translation: Technical Bulletin) No. 205B65, Revision 1, dated November 12, 2012; or Alenia Aermacchi Una Societa Finmeccanica Mandatory Bollettino Tecnico (English Translation: Technical Bulletin) No. 260SB-136, Revision 1, dated November 12, 2012, as applicable.

(4) If a discrepancy (e.g., set screw missing or unscrewed) is found during any inspection required by paragraph (f)(3) of this AD, before further flight, contact Alenia Aermacchi S.p.A. for repair instructions approved by the FAA specifically for this AD and incorporate the repair instructions. You may contact Alenia Aermacchi S.p.A. using the contact information found in paragraph (k)(3) of this AD.

(5) After the initial inspection required by paragraph (f)(3) of this AD, provided no discrepancies were found or any discrepancies found were corrected as required by paragraph (f)(4) of this AD, remove the placard or the copy of the AD that was inserted into the AFM required by paragraphs (f)(1) or (f)(2) of this AD.

(g) Credit for Actions Accomplished in Accordance With Previous Service Information

This AD allows credit for the actions required in paragraphs (f)(2) and (f)(3) of this AD if done before December 16, 2013 (the effective date of this AD) following Alenia Aermacchi Una Societa Finmeccanica Mandatory Bollettino Tecnico (English Translation: Technical Bulletin) No. 205B65, dated October 26, 2012; or Alenia Aermacchi Una Societa Finmeccanica Mandatory Bollettino Tecnico (English Translation: Technical Bulletin) No. 260SB-136, dated October 26, 2012, as applicable.

(h) Other FAA AD Provisions

The following provisions also apply to this AD:

(1) Alternative Methods of Compliance (AMOCs): The Manager, Standards Office, FAA, has the authority to approve AMOCs for this AD, if requested using the procedures found in 14 CFR 39.19. Send information to ATTN: Mike Kiesov, Aerospace Engineer, FAA, Small Airplane Directorate, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Special Flight Permit

Special flight permits are permitted with the following limitation: Aerobatic maneuvers are prohibited until the actions of the AD are complied with.

(j) Related Information

Refer to MCAI European Aviation Safety Agency (EASA) AD No.: 2012-0228R1, dated November 13, 2012, for related information. You may examine the MCAI on the Internet at http://www.regulations.gov by searching for and locating it in Docket No. FAA-2013-0939.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Alenia Aermacchi Una Societa Finmeccanica Mandatory Bollettino Tecnico (English Translation: Technical Bulletin) No. 205B65, Revision 1, dated November 12, 2012.

(ii) Alenia Aermacchi Una Societa Finmeccanica Mandatory Bollettino Tecnico (English Translation: Technical Bulletin) No. 260SB-136, Revision 1, dated November 12, 2012.

(3) For service information identified in this AD, contact Alenia Aermacchi S.p.A, Via Paola Foresio, 1, 21040 Venegono Superiore (Varese)—Italy; telephone: 0331-813111; fax: 0331-827595; Internet: http://www.aleniaaermacchi.it/en-US/Pages/custsupp.aspx.

(4) You may view this referenced service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on October 31, 2013.
Earl Lawrence,
Manager, Small Airplane Directorate, Aircraft Certification Service.

[FR Doc. 2013-26681 Filed 11-13-13; 8:45 am]

BILLING CODE 4910-13-P